DEPARTMENT OF HOMELAND SECURITY

Federal Emergency Management Agency

U.S. Fire Administration Policy and Program Advisory Board

AGENCY: Federal Emergency Management Agency, Emergency Preparedness and Response Directorate, Department of Homeland Security.

ACTION: Committee management: Notice of committee establishment.

SUMMARY: The Secretary of the Department of Homeland Security has determined that the establishment of the U.S. Fire Administration Policy and Program Advisory Board is necessary and in the public interest in connection with the performance of duties of the Under Secretary of the Emergency Preparedness and Response Directorate. This determination follows consultation with the Committee Management Secretariat, General Services Administration.

Name of Committee: U.S. Fire Administration Policy and Program Advisory Board.

Purpose and Objectives: The Committee advises the Secretary of the Department of Homeland Security and the Under Secretary of the Emergency Preparedness and Response Directorate.

The Board will provide advice and recommendations on policy and program issues as identified by the U.S. Fire Administrator (USFA) with the goal of reducing the Nation's fire problem and enhancing emergency management training and program policies, processes and procedures through enhanced research, programs and training to assure the nation's resources are better prepared to prevent, mitigate, respond to and recover from major emergencies or disasters regardless of cause or magnitude.

USFA will create Subcommittees that will be necessary to fulfill the Board's mission. In addition, USFA and the Board will establish such operating procedures as required to support the group, consistent with the Federal Advisory Committee Act, as amended.

Balanced Membership Plans: The Committee shall be comprised of nine members. The Secretary shall appoint the members of the Board from among professionals in the fields of fire safety, fire prevention, fire control, research and development in fire protection, treatment and rehabilitation of fire victims, or local government services management, and from such professional organizations as will ensure a balanced representation of fire and emergency services interests. Members will be appointed as Special Government Employees (SGEs). Members of the Board shall be appointed for terms of up to two (2) years, and members may be reappointed to two subsequent 2-year terms at the discretion of the Secretary. Board members will continue to serve until their replacement is appointed. In the event of a vacancy on the Board, the Secretary may select an alternate member or other individual to serve the unexpired term as described in the appointment letter. In order to provide for continuity of member participation, terms are staggered. No more than half of the members shall be replaced (or reappointed) in any given year unless there are vacancies for reasons other than term expiration.

Duration: The Board will terminate 2 years from the date of the charter filing, unless earlier renewed.

Responsible DHS Official: Mr. R. David Paulison, U.S. Fire Administrator, 16825 South Seton Avenue, Emmitsburg, MD 21727.

Dated: October 22, 2004.
Michael D. Brown,
Under Secretary, Emergency Preparedness and Response, Department of Homeland Security.

[FR Doc. 04-24124 Filed 10-27-04; 8:45 am]

BILLING CODE 9110-17-P